DEPARTMENT OF THE TREASURY

Internal Revenue Service

Open Meeting of the Taxpayer Advocacy Panel Notices and Correspondence Project Committee; Correction

AGENCY: Internal Revenue Service (IRS) Treasury.

ACTION: Notice of meeting; correction.

SUMMARY: In the Federal Register notice that was originally published on October 11, 2018, (Volume 83, Number 197, Page 51565) the Point of Contact information was changed from Gregory Giles, 240-613-6478 to (202) 317-3332, Otis Simpson. All meeting details remain the unchanged.

DATES: The meeting will be held Thursday, November 8, 2018.

FOR FURTHER INFORMATION CONTACT: Otis Simpson at 1-888-912-1227 or 202-317-3332.

SUPPLEMENTARY INFORMATION: Notice is hereby given pursuant to Section 10(a)(2) of the Federal Advisory Committee Act, 5 U.S.C. App. (1988) that a meeting of the Taxpayer Advocacy Panel Notices and Correspondence Project Committee will be held Thursday, November 8, 2018, at 1:00 p.m. Eastern Time via teleconference. The public is invited to make oral comments or submit written statements for consideration. Due to limited conference lines, notification of intent to participate must be made with Otis Simpson. For more information please contact Otis Simpson at 1-888-912-1227 or 202-317-3332, or write TAP Office, 1111 Constitution Ave. NW, Room 1509, Washington, DC 20224 or contact us at the website: http://www.improveirs.org. The agenda will include various IRS issues.

The agenda will include a discussion on various letters, and other issues related to written communications from the IRS.

Dated: October 15, 2018.
Kevin Brown,
Acting Director, Taxpayer Advocacy Panel.

[FR Doc. 2018-23030 Filed 10-22-18; 8:45 am]

BILLING CODE 4830-01-P